DEPARTMENT OF AGRICULTURE

Agricultural Marketing Service

7 CFR Part 1000

[Docket No. AMS-DA-18-0096]

Federal Milk Marketing Orders—Amending the Class I Skim Milk Price Formula; Correction

AGENCY: Agricultural Marketing Service, USDA.

ACTION: Final rule; correction.

SUMMARY: On March 11, 2019, the Agricultural Marketing Service (AMS) published a revision to the Class I skim milk price formula for milk pooled under the Federal milk marketing order (FMMO) as required by the Agriculture Improvement Act of 2018. This document explains the May 1, 2019, effective date and makes two clarifying corrections to the final regulations.

DATES: Effective May 1, 2019.

FOR FURTHER INFORMATION CONTACT: Erin Taylor, Acting Director, Order Formulation and Enforcement Division, USDA/AMS/Dairy Program, STOP 0231, Room 2963, 1400 Independence Ave. SW, Washington, DC 20250-0231; telephone: (202) 720-7311; or email: erin.taylor@usda.gov.

SUPPLEMENTARY INFORMATION: On March 11, 2019, AMS published a final rule amending the Class I skim milk price formula for milk pooled under the FMMO program (84 FR 8590). The amendments will be effective May 1, 2019. For clarification, as a result of this rule, the amended Class I skim milk price formula will apply to milk pooled on and after May 1, 2019. Therefore, the amended formula will be reflected in the May Advanced Class I skim milk price announced April 17, 2019. The final regulatory text also contained an incorrect section reference to § 1000.51(b) instead of § 1005.51(b), and did not include a rounding instruction in the calculation. This document provides technical corrections to the final regulations.

Federal Register Correction

Effective May 1, 2019, in rule document 2019-04347 at 84 FR 8590 in the issue of March 11, 2019, on page 8591, in the third column, in amendatory instruction 2, paragraph (b) is corrected to read as follows:

§ 1000.50 [Corrected]

(b) Class I skim milk price. The Class I skim milk price per hundredweight shall be the adjusted Class I differential specified in § 1000.52, plus the adjustment to Class I prices specified in §§ 1005.51(b), 1006.51(b) and 1007.51(b) of this chapter, plus the simple average of the advanced pricing factors computed in paragraph (q)(1) and (2) of this section rounded to the nearest cent, plus $0.74 per hundredweight.

Dated: March 28, 2019.
Bruce Summers,
Administrator.

[FR Doc. 2019-06335 Filed 4-1-19; 8:45 am]

BILLING CODE 3410-02-P